AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration.

DATES: The meeting date is Tuesday, April 28th, 2015, 12 p.m. to 3 p.m.

ADDRESSES: The meeting location is 1400 I Street Northwest, Suite #1000 (Main Conference Room), Washington, DC 20005-2246.

FOR FURTHER INFORMATION CONTACT: Michele Rivard, 202-233-8804.

Authority: Public Law 96-533 (22 U.S.C. § 290h).

Dated: April 15, 2015.
Doris Martin,
General Counsel.

[FR Doc. 2015-09422 Filed 4-22-15; 8:45 am]

BILLING CODE 6117-01-P